DEPARTMENT OF COMMERCE

Foreign-Trade Zones Board

[B-73-2017]

Foreign-Trade Zone (FTZ) 39—Dallas/Fort Worth, Texas; Notification of Proposed Production Activity; Dallas Airmotive, Inc (Aircraft Engine Disassembly), DFW Airport, Texas

Dallas Airmotive, Inc (DAI) submitted a notification of proposed production activity to the FTZ Board for its facility in DFW Airport, Texas. The notification conforming to the requirements of the regulations of the FTZ Board (15 CFR 400.22) was received on November 20, 2017.

The DAI facility is located within Site 1 of FTZ 39. The facility is used for the disassembly of aircraft engines. Pursuant to 15 CFR 400.14(b), FTZ activity would be limited to the specific foreign-status materials and components and specific finished products described in the submitted notification (as described below) and subsequently authorized by the FTZ Board.

Production under FTZ procedures could exempt DAI from customs duty payments on the foreign-status components used in export production. On its domestic sales, for the foreign-status materials/components noted below, DAI would be able to choose the duty rates during customs entry procedures that apply to: AC generators; accumulators; linear actuators; valve and gear adapters; airflow control regulators; aluminum tubes and pipe fittings; fuel control arms; attenuators; autostart kits; auxiliary power units; rubber gearshaft baffles; mounting ball assemblies; aluminum ball floats; exhaust duct bands; roller bearing assemblies; ball bearings; roller bearings; cylindrical roller bearings; spherical roller bearings; bellcranks; metal bellows; turbofan and rotorcraft fan blades; insulation blankets; metal blocks for turbofans; nickel and steel bolts; container and engine brackets; fabric braids; plastic bumpers; plastic and metal bushing; bypass ducts; electric cables; steel cables; bearing cages; cam propeller controller engines; plastic and aluminum fuel caps; carbon face seal assemblies; oil seal carriers; turbofan and rotorcraft cases; turbofan chambers; chip detectors; signaling sensor chips; steel circlips; circuit breakers; steel clamps; clevis rod ends; sprag clutches; turbofan coils; turbofan pump collars; turbine module combusters; temperature compensators; turbine stator compressors; electrical conduits; turbofan cones; plug and field connectors; electrical contacts; universal torque, bleed valve and starting controls; ceramic fiber cords; steel cotter pins; turbofan and rotorcraft counter weights; magnesium and steel couplings; turbofan and rotorcraft covers; silicon and rubber cushions; torquemeter cylinders; steel vibration dampers; data collections units; paper, aluminum and steel decals; pump and gear deflectors; bagged, 8-unit dessicants; turbofan, valve and gear diaphragms; turbofan discs; steel dowels; dynamostarters; ejector pumps; tank assemblies; magnesium gear elbows; electronic engine controls; plastic envelopes; exciters; fairings; steel ferrules; filler caps; water and fuel filters; aluminum flanges; valve and automatic fuel controls; fuel pumps; fuel shut off cables; fuel/oil heat exchangers; oil tank gauges; silicone, rubber, paper, stone, asbestos, steel, copper, nickel, turbofan, valve and two-layer gaskets; gear; gearshafts; glow plugs; pin-valve guides; harness clips; heat shields; non-metallic hoses; turbofan, pump, gearbox and check valve housings; turbofan pump impellers; mechanical, humidity, oil level and electrical indicators; injectors; inner compressor modules; steel and nickel inserts; seal retaining plate insulation; thermocouple insulators; ITT indicators; ITT probes; steel keys; air pressure valves; rubber O-ring kits; fuel pump and filter seals parts kits; electrical leads; negative lead thermocouples; turbofan and overspeed control levers; turbofan and bleed valve liners; steel lock tabs; stainless steel locking nuts; logbooks; measurement interfaces; metering plugs; pushrod modification kits; heated P3 line modification kits; monitors; rubber, shipping container and vibration mounts; steel nipples; turbo and rotorcraft nozzles; steel, nickel and titanium nuts; oil coolers; turbofan orifices; overspeed governors; overtorque limiters; aluminum packing; turbofan pad assemblies; turbofan panels; oil filter replacement parts kits; filter parts kits; fuel filter replacement parts kits; steel, copper, nickel and aluminum pins; turbofan pipes; turbofan valve pistons; plastic, glass, steel, identification, pump, gear and thermocouple plates; shipping, metal, electrical, chip and collector plugs; plungers; potentiometers; power section modules; pressure transmitters; propeller governor controls; oil and fuel pumps; turbofan quadrants; steel turbofan receptacles; reducing unions; reduction gear boxes; oil level indicator reflectors; regulators; variable and fixed resistors; retainer turbofans; plastic, rubber, steel and nickel turbofan rings; steel, nickel and aluminum tubular rivets; plain bearing rod ends; steel, nickel, turbofan, pump and valve rods; roller bearings; turbo and rotorcraft rotors; turbine helicopter engines; pulse pick-up runners; scavenge pumps; oil scoops; turbofan pump and valve screens; steel, nickel and aluminum screws; silicon, rubber, textile, nickel, turbofan, valve, mechanical, oil and electrical motor seals; turbofan and valve seats; oil, rotational speed and option sensors; air-oil separators; turbofan and rotorcraft shafts; fuel nozzle sheaths; electrical connector shells; shield assemblies; aluminum, turbofan and rotorcraft shims; shipping container skid base assemblies; plastic, steel, turbofan, rotorcraft, valve, gear and insulated sleeves; slider blocks; steel snap rings; turbofan and rotorcraft spacers; speed sensors and probes; steel spindles; spinners; steel springs; starter generators; power turbine stators; bleed check valve stoppers; oil strainers; plastic and steel straps; felt and fiberglass strips; steel and nickel studs; sump accessory gearboxes; rotorcraft and turbofan supports; shock absorber suspenders; switch assemblies; swivel joint casings; tape with a width less than 20cm; insulating, electrical and rubber tape; steel and aluminum tees; temperature sensors; plastic plate templates; terminal assemblies; terminal boards; terminal lugs; thermal couplings; immersion and T6 thermocouples; tie rods; torque transducers; bearing tracks; train idlers; transducers; transformer liners; transmitters; turbofan traps; steel trunnions; plastic, steel and aluminum tubes; turbine stator assemblies; turbofan engines; turboshaft gas turbine A/C engine; vacuum capsules; pressure reducing, hydraulic, safety, solenoid and regulator valves; turbo and rotorcraft vanes; silicone, fabric, steel locking, steel, copper, nickel and aluminum washers; wheels; nickel wire; steel wire rope; wiring harnesses; wrapper assemblies; and, yokes (duty rate ranges from duty-free to 49.5¢/kg + 7.5%). DAI would be able to avoid duty on foreign-status components which become scrap/waste. Customs duties also could possibly be deferred or reduced on foreign-status production equipment.

The components and materials sourced from abroad include: Turbojet aircraft engines; and, turbopropeller engines (duty rate ranges from duty-free to 2.5%).

Public comment is invited from interested parties. Submissions shall be addressed to the Board's Executive Secretary at the address below. The closing period for their receipt is January 8, 2018.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: November 21, 2017.
Andrew McGilvray,
Executive Secretary.

[FR Doc. 2017-25651 Filed 11-27-17; 8:45 am]

BILLING CODE 3510-DS-P